DEPARTMENT OF JUSTICE

Office of Community Oriented Policing Services FY 2003 Community Policing Discretionary Grants

AGENCY: Office of Community Oriented Policing Services, Department of Justice.

ACTION: Notice of funding availability.

SUMMARY: The U.S. Department of Justice Office of Community oriented Policing Services (COPS Office) is seeking proposals to fund a variety of initiatives designed to enhance local law enforcement community policing efforts. This solicitation provides background on the COPS Office and outlines the types of projects and programs the Office is interested in funding through grants or cooperative agreements. The solicitation should be of particular interest to law enforcement agencies, universities, and profit and non-profit institutions with an interest in an experience with community policing. The purpose of this solicitation is to provide funding for community policing efforts through their direct enhancement, the development of products, tools, or applied research that will facilitate their adoption and implementation and/or the development of training and technical assistance. This solicitation is being announced as an open competition. Awardees will be expected to begin work immediately upon selection.

Background: Since 1994, the U.S. Department of Justice Office of Community Oriented Policing Services has been the Federal government office whose unique mission it is to directly serve the needs of local law enforcement. COPS is responsible for making grants to States, units of local government, Indian tribal governments, other public and private entities, and multi-jurisdictional or regional consortia with the goals of increasing police presence, expanding and improving cooperative efforts between law enforcement agencies and members of the community, supporting innovative community policing projects, and otherwise enhancing public safety through reductions in crime and social disorder.

The COPS Office has awarded grants to more than 13,000 policing agencies across the country and has provided funding for over 116,000 officers through direct hiring grants and the redeployment of officers through the purchase of time-saving technology and the hiring of civilians. The Office has also funded a wide-variety of innovative policing grants to combat crime and enhance public safety.

Innovative grants have included funding to foster collaborative problem-solving between police and community-based agencies or schools, engaging faith based communities, domestic violence response and prevention, 311 systems, anti-gang efforts, and methamphetamine reduction. The COPS Office has also funded the creation of 31 Regional Community Policing Institutes (RCPIs) to foster training in community policing at the regional level. The Office has a history of producing practical and useable products and publications for the law enforcement field. Additional information regarding the COPS Office can be found at www.cops.usdoj.gov.

Funding Availability and Applicant Criteria: Depending on the fundability of proposals received by the COPS Office, funding amounts may be increased or decreased within categories. In addition, all categories/parts may not receive funding based upon the quality of applications. Additional projects may be funded from this solicitation with fiscal year 2004 appropriations if such appropriations are forthcoming. Grants or cooperative agreements will be awarded for a minimum of a one-year grant period and a maximum of a two-year grant period.

The COPS Office is seeking proposals under an Open Topic area where applicants are encouraged to develop innovative original proposals that support the mission and goals of the COPS Office. In addition, the COPS Office is seeking specific proposals in the following two general categories: Applied Research/Pilot Programs and Evaluations. Descriptions of the specific types of proposals the Office is seeking are provided under each of these general areas. Please note that applicants are eligible to apply for several projects under multiple areas. Applicants are strongly encouraged to submit original and innovative ideas under the Open Topics area.

A. Open Topics (A)

Approximate Funding per Project: $250,000

Applicants are encouraged to present original and innovative proposals under this topic area. Proposals must support the mission and goals of the COPS Office to advance the community policing efforts of local law enforcement. Applicants may propose such projects as the direct funding of innovative pilot programs (for example community oriented government pilot projects), the development of tools, products or applied research that will facilitate the implementation or advancement of community policing efforts, or providing training and/or technical assistance to local law enforcement concerning issues relevant to community policing topics (for example community policing as it relates to intelligence gathering). Note that if pilot programs are proposed, they must include an evaluation component to ensure that program effectiveness can be determined and replicated by other agencies.

B. Applied Research/Pilot Programs

1. Institutionalizing Problem Analysis (B1)

Approximate Funding: $500,000

Purpose/Goal: Effective problem-solving requires the in-depth analysis of the underlying conditions that give rise to community problems. The COPS Office recognizes the need to increase the capability of law enforcement agencies to engage in such problem analysis activities to develop effective solutions to them. In furtherance of this objective, the COPS Office recently convened a forum of leading experts and practitioners to discuss and clarify the notion of problem analysis. The publication “Problem Analysis in Policing” details the primary results of this forum and can be found at www.cops.usdoj./gov/Default.asp?Open=True&Item=847.

Applicants should familiarize themselves with this document; as the primary goal of this project is to facilitate the implementation of problem analysis into approximately five law enforcement agencies of varying size.

Objectives/Expectations: The applicant will develop a process to select five law enforcement agencies that have a demonstrated commitment to and understanding of the problemsolving process. A significant portion of the funding requested should be used to provide “incentive” monies directly to each of the selected agencies to enhance their problem analysis capabilities. For example, this enhancement may include funding such items as a portion of the salary of a new problem analyst or funding to perform problem analysis research and hardware/software used for problem analysis. The applicant will be expected to provide technical assistance throughout the course of the project to ensure the greatest possibility of achieving the institutionalization of problem analysis capabilities within the policing agencies. The applicant will also be expected to engage in a detailed process evaluation, including case studies of each of the sites, which will enable other agencies to replicate and learn from these efforts.

Deliverables: The applicant will be expected to deliver a description of site selection criteria, any training curriculum/technical assistance resources developed for the agencies, a final detailed process evaluation, and case studies of each of the five selected sites. The applicant will also be expected to develop a final guide for use by police agencies who are seeking to institutionalize a problem analytic function.

Knowledge/Experience Required: Proposals should provide a definition of problem analysis, differentiating it from crime analysis as it is currently conducted, and discuss the current state of problem analysis in the nation's law enforcement agencies. The applicant should provide a preliminary outline of the process that will be used to select the five agencies and demonstrate their knowledge of law enforcement agencies and past experience working closely with them. The applicant should demonstrate a thorough understanding of community policing and problem-solving processes and the ability to train others in them.

2. Hiring/Recruitment/Retention of Community Police Officers (B2)

Approximate funding: $400,000

Purpose/Goal: Hiring and retaining top quality police officers has long been both a priority and a challenge for police agencies. This has become even more critical in an era of community policing since the events of 9/11. There are many stages and activities associated with recruiting, hiring, and retaining officers with the skills to meet today's challenges. The COPS Office seeks to expand upon the development of hiring, recruitment and retention tools that both reflect community policing principles and respond to the hiring pressures facing law enforcement. The state of knowledge and experience regarding successful and innovative recruitment, hiring and retention practices has grown in recent years, and the purpose of this funding is to continue this advancement.

Objectives/Expectations: Local law enforcement is the front line in the fight against terrorism at home. Yet law enforcement agencies are losing sworn officers at a rapid rate due to retirement, the creation of new federal positions that often provide competitive salary and benefits packages, and military call-ups. These factors, along with the emergence of community policing as the predominant policing paradigm, necessitate the development and testing of innovative practices to recruit and retain quality sworn personnel.

In two Chief Executive Officer Symposia convened by the COPS Office both pre- and post-9/11, police and sheriff executives identified several points of need in the area of police recruitment and hiring. These include a definition of an ideal candidate that incorporates the perspectives of not only those in law enforcement, but also the views of the community. Similarly, a national job description and a validated set of core competencies that more comprehensively reflect community policing and problem solving principles are needed. Another identified priority was research into private sector best practices on recruitment, retention, leadership, and succession planning that could be leveraged in a policing environment. Tools and techniques for confronting institutional biases within these processes are also important to develop. Finally, these leaders also expressed an interest in the development of a national marketing campaign geared towards promoting policing in the 21st Century.

The expectations for grants and cooperative agreements funded under this section are to respond to these recommendations through innovative projects, applied research, and/or the development of practical tools for use by law enforcement.

Deliverables/Outcomes: Projects under this topic area could take several forms, such as the development of pilot programs that are able to be replicated, monograph publications, recruitment tools for use by police departments, innovative testing and interviewing instruments, or the development of effective model print, radio and television employment public service announcements for use by agencies. Applied research projects that examine the effectiveness of recruitment and retention efforts, separately and combined, in attracting and retaining women and minorities may also be funded. For instance, it may be important to evaluate the relative effectiveness of various assessment instruments in predicting future police performance (according to community policing principles)—and as important—who will remain in law enforcement. Issues related to whether what recruits learn in the academy accurately reflects the work they will do, and whether gaps in training contribute to attrition could also be addressed through funding.

Knowledge/Experience Required: Applicants must demonstrate a strong knowledge of the issues associated with police recruitment, hiring, and retention. Additionally, any non-law enforcement agency applicants must have experience working with law enforcement agencies.

3. Volunteers in Police Service (B3)

Approximate Funding per Project: $50,000

Purpose/Goal: In his 2002 State of the Union Address, President George W. Bush announced the creation of the USA Freedom Corps, which is an effort to foster a culture of service, citizenship, and responsibility, building on the generous spirit of the American people. The Citizen Corps programs are part of the USA Freedom Corps initiative and share the common goal of helping communities prevent, prepare for, and respond to crime, natural disasters, and other emergencies.

One of the Citizen Corps programs is Volunteers in Police Service (VIPS), administered by the U.S. Department of Justice. The goal of VIPS is to enhance the capacity of state and local law enforcement to utilize volunteers. These civilian volunteers provide support for resource-constrained law enforcement agencies by supplementing their community's law enforcement professionals to free officers for frontline duty. Funding will be provided to enhance and institutionalize a volunteer in police service program within local police departments.

Objectives/Expectations: To help expand the VIPS program, the COPS Office is seeking proposals from local law enforcement agencies to establish or enhance their volunteer program and recruitment efforts. Preliminary information from the VIPS program stresses the importance of a volunteer coordinator. An effective volunteer coordinator is often linked to a success of VIPS programs and funds from this grant can (but are not required) be used to help cover costs of this position. Among other items, funding may also be used for such things as advertisements and marketing of volunteer programs (including Web site development), activities associated with neighborhood watch and other resources for volunteer coordination, implementation, and evaluation efforts. Grantees will be required to attend a COPS Office VIPS-related training and should budget travel for 2 individuals to attend this training. Law enforcement agencies receiving funding must register with USA Freedom Corps as an official VIPS site.

Deliverables/Outcomes: The primary outcome will be an operational volunteer in police service program that enhances the ability of the local police department to effectively provide public services. Grantees will provide a final report to the COPS Office documenting how the funding directly enhanced their volunteer program and the overall benefits to the agency, so that these efforts can be promoted and replicated in other law enforcement agencies.

Knowledge/Experience Required: Applicants must be law enforcement agencies. Applicants should familiarize themselves with the Volunteers in Police Service program (www.policevolunteers.org) for additional information about programs that could possibly be replicated in their agency using this funding. Grantees must also express a strong commitment to maintain volunteer program efforts after grant expiration.

4. Topic Focused Law Enforcement Technology Guides (B4)

Approximate Funding: $250,000

Purpose/Goal: While the benefits of implementing technology are obvious, the obstacles to getting the most from that technology often are not. In a time when growing responsibilities greatly increase the duties of local law enforcement agencies, a natural response is to turn to technology as a force multiplier. However, there are a limited number of technology resources that are specifically tailored for law enforcement. To meet the need for additional resources, in 2001 the COPS Office funded the development of a Law Enforcement Tech Guide, a comprehensive “A to Z” technology planning, acquisition, implementation and integration guide that helps agencies address crime and social disorder issues. This guide can be found on the COPS Office Web site at www.cops.usdoj.gov/Default.asp?Item=512.

The guide has been well received by the law enforcement community. However, there are numerous other issues in the area of law enforcement technology that could be addressed by similar guides. Funding will be provided to produce additional law enforcement technology guidebooks.

Objectives/Expectations: To meet these evolving needs, the COPS Office is seeking proposals for the development of multiple technology-specific guidebooks for law enforcement. Topics that may be addressed include, but are not limited to, interoperability, crime mapping, 311, integration, technology training, managing change due to technology implementation, records management systems, and technology for the small/rural agencies.

Deliverables/Outcomes: Applicants will produce guidebooks designed for a law enforcement audience on multiple technology-specific topics.

Knowledge/Experience Required: The applicants should address their knowledge and experience in the area of information systems implementation in law enforcement environments.

Proposals should also demonstrate the applicant's knowledge and experience regarding the specific topics of the guidebooks being proposed and the ability to write for a law enforcement audience.

5. 311 for Homeland Security and Crisis Management (B5)

Approximate Funding per Project: $300,000

Purpose/Goal: Since 9/11 homeland security concerns have prompted the Administration to call on citizens to be vigilant. In addition, recent domestic criminal events, such as the October 2002 sniper attacks in the Washington Metropolitan Area, have further illustrated the need to encourage citizen information sharing for crime prevention and crime solving. The effects of such heightened awareness and calls for citizen participation have resulted, in part, in a 911 system challenged to keep up with calls from concerned citizens, many of whom use 911 as their primary vehicle to initiate contact with the police or other public service agencies.

311 Public Service Model non-emergency call systems can support and be integrated into homeland security and emergency preparedness plans and policies. 311 systems can be especially effective when they allow for coordinated efforts and information sharing between multiple public service agencies (e.g., transportation, health, sanitation, victim services etc.). 311 systems can support emergency management efforts and enhance public service agency response efforts to prepare for emergencies.

Proposals are being sought from law enforcement agencies prepared to establish a Public Service Model 311 non-emergency call system that includes multiple public service agencies such as law enforcement, EMS, transportation, health, sanitation, victim services etc. for the purposes of improving homeland security and crisis management plans and practice. Funding is available for equipment (hardware and software) necessary to establish a Public service Model 311 non-emergency call system and for an impact evaluation of such a system. Funding is available to law enforcement agencies currently operating within jurisdictions that do not have a 311 system or those interested in expanding a law enforcement only 311 system into one that includes multiple public service agencies.

Objectives/Expectations: This project would require applicants to:

1. Establish a Public Service model 311 system involving multiple public service agencies, designing this non-emergency communication system to fill current gaps in information sharing between public service agencies and enhance the effectiveness of current homeland security and crisis management plans.

2. Develop innovative ideas for improving emergency dispatching, call prioritization, and records management systems.

3. Evaluate the impact of the 311 system on homeland security and crisis management plans and provide results of the evaluation to public safety personnel (including first-responders), other public service agencies, and the community-at-large. The evaluation should clearly demonstrate the utility of 311 in homeland security and crisis management.

Deliverables/Outcomes: Deliverables will include an operational Public Service Model 311 system (that includes multiple public service agencies). An impact evaluation is expected to be completed six months after the system has become operational and should be budgeted for.

Knowledge/Experience Required: Proposals should include the following items:

1. Applicants may apply for funding to either start-up a 311 system that includes multiple public service agencies or to expand current law enforcement only 311 systems. Due to the focus on developing cooperation and accountability between multiple public service agencies, jurisdictions currently operating a multi-agency Public Service Model 311 system are ineligible for funding under this topic.

2. Funding may be contingent on the current technological infrastructure of the applicant agency. Applicants must provide details of current technological infrastructure available to support the project.

3. Applicants must provide a demonstration of need, showing that a Public Service Model 311 non-emergency system will aid in the development of Homeland Security and Crisis Management plans and practice. This demonstration of need should be included as a separate document (no longer than 15 double-spaced typed pages) and will not count towards the proposal page limit.

4. Applicants must demonstrate that they have secured support from the primary stakeholders, including government executives, and at least two non-public safety agency executives. Stakeholders must have determined that a Public Service Model 311 system involving multiple public agencies will benefit the homeland security and crisis management plans and practices of the jurisdiction.

5. Applicants must address the implications of utilizing a 311 system for homeland security and crisis management efforts on current organizational processes, delineating each affected agency. The potential impact of 311 on police non-emergency calls must be described in the proposal.

6. Applicants must demonstrate the availability of in-kind contributions for establishing this system. This information is necessary, as the cost of most 311 systems will most likely exceed the amount of COPS-funding available.

7. Smaller law enforcement agencies are encouraged to partner with one or more neighboring jurisdictions in this effort.

C. Evaluations

1. Evaluation of MORE Grant Effectiveness (C1)

Approximate Funding: $200,000

Purpose/Goal: The COPS MORE (Making Officer Redeployment Effective) program is one of several approaches developed by the COPS Office to increase the deployment of law enforcement officers devoted to community policing. COPS MORE grants have been used to purchase law enforcement technology. One primary requirement of COPS MORE is that the time-savings experienced by officers as a result of the additional technology must result in redeployment into community policing activities. Some examples of the types of time-saving technology purchased through MORE grants include: mobile data terminals, record management systems, computer aided dispatch systems, and automated fingerprint identification systems.

Over the past seven years, the COPS Office has also recognized that technology can result in increased officer effectiveness. This increased effectiveness contributes to the overall COPS aim of reducing crime and social disorder through community policing.

Last year the COPS Office funded 295 agencies under the COPS MORE 2002 program. while MORE grantees were previously required to track and report time-savings and redeployment resulting from their grant, this requirement was removed under MORE 2002. while time-savings and redeployment still occur, the COPS Office is interested in an evaluation that will document or estimate the full-time equivalents (FTE's) redeployed, as well as the impacts of these technologies on department operations, communication, and community policing.

Objectives/Expectations: The COPS Office is seeking proposals that seek to document the efficiencies and effectiveness outcomes created as a result of the technology funded under the COPS MORE 2002 program.

Deliverables/Outcomes: The applicant will be expected to produce documentation that examines the efficiencies created as a result of the MORE 2002 program, and also examine and document any increases in effectiveness resulting from the program. The project deliverable(s) should also inform the profession on these findings in the form of a guidebook that will assist law enforcement agencies in achieving maximum efficiency and effectiveness with these technologies. This guidebook should demonstrate how to realize the desired results; provide instruction on police technologies based on the documented experiences of these grantees; and develop a model for agencies to use to self-evaluate their technology projects.

Knowledge/Experience Required: Applicants should demonstrate their knowledge of the COPS MORE program and of other technology-related outcomes beyond time-savings. Proposals should also provide a summary of the evaluation design and methods that would be used to measure effectiveness and efficiencies generated as a result of COPS MORE grants.

2. Analysis of COPS Start-Up Agencies (C2)

Approximate Funding: $150,000

Purpose/Goal: The COPS Office has provided funding to approximately 300 jurisdictions to initiate the development of police departments. These “start-up” agencies provide an opportunity to learn more about the factors associated with the implementation and initiation of police departments and community policing activities in smaller settings.

Objectives/Expectations: The COPS Office is seeking proposals that examine the nature of these COPS funded start-up law enforcement agencies, trace their history, and document impediments and facilitators to the institutionalization of community oriented police services in smaller settings.

Deliverables/Outcomes: Applicants will be expected to produce a final report documenting the nature of COPS funded start-up law enforcement agencies and a guidebook aimed at assisting the development of police agencies in smaller settings. This guidebook should highlight important factors that should be taken into consideration when “starting-up” a police department and provide guidance on how to best effectively accomplish this task.

Knowledge/Experience Required: The applicant should have working knowledge of policing in smaller settings and the processes and procedures involved in initiating the development of an effective police department.

3. Managing Local Evaluations: A Guide for Law Enforcement (C3)

Approximate Funding: $100,000

Purpose/Goal of Proposed Project: Law enforcement is frequently called upon to provide evaluation information regarding local public safety efforts. Some agencies employ in-house evaluators, but many must seek external assistance from local universities or with private consultants. In some cases, evaluations that are conducted may not adequately meet the needs of the law enforcement agency.

This project will assist law enforcement agencies in providing funding for and in conducting and utilizing program evaluations.

Objectives/Expectations of Proposed Project: Proposals are being sought to develop a Law Enforcement Practitioner Guide to Managing Local Evaluations. This guide should assist law enforcement agencies through the evaluation process from start to finish-from how to select an evaluator, the managing on-going evaluations, to evaluating the final deliverable. Possible issues to be addressed include how to best communicate needs to potential evaluators, the types of documents that should be obtained and reviewed prior to selecting an evaluator, and how to best formulate a contract with an evaluator. The benefits of securing and speaking with references, the need for a detailed research plan, the importance of selecting the right agency official to work with the evaluator, and how to address whether an evaluator will meet their needs should also be discussed. The guide may also help the law enforcement practitioner understand the true costs of evaluations, predict potential budget pitfalls, and discuss how to spot trouble early-on and what to do in situations of non-compliance. Finally, the guide should help law enforcement practitioners generally understand how to apply the findings of an effective evaluation.

Deliverables/Outcomes: The primary deliverable is a publishable copy of a Law Enforcement Practitioner Guide to Managing Local Evaluations.

Specific Knowledge/Experience Required: Applicants must demonstrate a through understanding of the evaluation process and ability to write content for a law enforcement auidence. They must have documented program evaluation experience. A sample of an original published or unpublished program evaluation should be included with the application. This writing sample will not count towards the proposal page limit.

4. Analysis of COPS Police Integrity Initiative (C4)

Approximately Funding: $500,000

Purpose/Goal: This request is presented in two parts. Proposals should address both parts.

Part I:

The COPS Office is seeking the development of a comprehensive product that will summarize and highlight current work being done by COPS grantees to prevent racial profiling and to increase trust between police and citizens. In Fiscal Year 2001, the COPS Office funded (21) police departments under the Promoting Cooperative Strategies to Reduce Racial Profiling initiative to develop strategies that would address racial profiling. These strategies include:

• Collecting and analyzing traffic-stop data;

• Accountability and supervision;

• Recruitment and selection;

• Training and education of police and citizens;

• Using technology to prevent racial profiling; and

• Minority community engagement initiatives.

At the conclusion of these projects, each of the 21 police departments will produce a technical assistance guide that will document lessons learned and model practices that can be replicated by other law enforcement agencies. The technical assistance guides will be developed so that other police-community partnerships can benefit from the lessons learned when addressing police integrity issues. In that regard, these technical assistance guides are intended to include what worked, what did not work, the barriers to project implementation, solutions to obstacles in solving problems, and a discussion on how the project strengthened police integity, police-community relationships, and the related impact on racial profiling prevention.

Part II:

The COPS Office is also seeking a preliminary assessment of current work being done by COPS grantees to create cultures of integrity. In Fiscal Year 2002, the COPS Office funded 60 law enforcement agencies to develop a strategy that would support a culture of integrity, and 41 state chiefs' and sheriffs' associations to host police integrity training workshops at their annual meetings. The law enforcement strategy areas include:

• Use of force policy and training;

• Development of early intervention systems;

• Mapping integrity violations and related interventions;

• Self assessment techniques for internal monitoring;

• Strengthening internal affairs division operations;

• Improving citizen complaint processes;

• Utilizing a civilian review board;

• Command staff integrity training;

• Ensuring accountability to the community;

• Outreach to minority youth;

• Traffic stop data collection; and

• Recruiting quality recruits from local communities.

The association strategy areas include:

• Integrity training to support community policing;

• Homeland security and police integrity;

• Building public trust and confidence;

• Integrity challenges to police leadership; and

• Developing policy that strengthens integrity.

For more information on the COPS Police Integrity Initiatives, please visit the COPS Web site at: http://www.cops.usdoj.gov/Deault.asp?Open=True&Item=393

Objectives/Expectations:

Part I:

In order to maximize the work being done in the field through this important initiatives, the COPS Office is seeking the development of a comprehensive product that will summarize and highlight varied approaches across the six strategy areas under the Promoting Cooperative Strategies to Reduce Racial Profiling initiative. This project will require the applicant to:

• Provide on-site and/or telephone technical assistance to the agencies, if necessary, to assist in the completion of the final technical assistance guides;

• Review the 21 technical assistance guides for the purpose of compiling successes, model practices and lessons learned during strategy development/enhancement and implementation;

• Incorporate the following information/discussion into the final product:

(1) The impact of the strategies on the reduction and/or prevention of racial profiling and the perceptions of its practice;

(2) How strategy development and implementation contributed to building trust between police and citizens and to advancing community policing;

(3) Recommendations and considerations for other agencies that are interested in replicating these strategies.

Part II:

This project will require the applicant to:

• Work with the COPS Office to develop a preliminary assessment plan for documenting the progress of 101 grantees funded under the Creating a Culture of Integrity initiative;

• Submit a final report that discusses the following information:

(1) How COPS funding was used to meet project goals and objectives;

(2) Successes and challenges in developing and implementing the projects;

(3) The impact of the funding on advancing police integrity and creating cultures of integrity.

Deliverable/Outcomes:

Part I:

The applicant will be expected to produce a comprehensive final product that will summarize the experiences of the 21 police departments in developing their strategy under the Promoting Cooperative Strategies to Reduce Racial Profiling initiative, and the related impact on advancing community policing and racial profiling prevention. This product will provide an overview of varied approaches to addressing this significant issue for other law enforcement agencies that are interested in replicating these strategies.

Part II:

The applicant will be expected to conduct a preliminary assessment of 101 law enforcement agencies and police chiefs' and sheriffs' associations funded under the Creating a Culture of Integrity initiative. The purpose of this assessment will be to assist the COPS Office in documenting the progress of these pilot projects. The COPS office will expect a final report that discusses the outcomes of the preliminary assessment.

Knowledge/Experience Required: In addition to the general criteria listed in the solicitation, the applicant should address knowledge and experience in the areas of police integrity and racial profiling. In addition, the applicant should address knowledge and experience in each of the six strategy topic areas under the Promoting Cooperative Strategies to Reduce Racial Profiling initiative. The applicant should demonstrate a thorough understanding of community policing, and the importance of mutual trust and respect between police and citizens in order to strengthen police integrity and to advance the principles of community policing. Applicants should also have a demonstrated awareness of the COPS Police Integrity Initiatives.

How To Apply. Those interested in submitting an application in response to this solicitation must complete a Community Policing Development Application Packet. A detailed project description that is responsive to the criteria presented above must be included under section I of the packet. In this project description also discuss your management plan for implementing this project with respect to internal and external management of personnel and resources and your experience with managing grants and cooperative agreements. Resumes of key project staff/named consultants (relevant experience for the proposed project should be highlighted) should also be included and does not count towards the page limit.

Applicants may submit distinct multiple applications for different topic areas or propose projects that effectively combine topic areas. However, each distinct project must be described in detail in a separate Community Policing Development Application Packet with original signatures.

Notice of Intent To Apply: Please fax the accompanying notice of intent to reply form to the COPS Office, indicating the topic area(s) you are planning to apply under. The letter should be faxed to the attention of Angel Winters at 202-616-8658 no later than June 2, 2003.

ADDRESSES: Applications for this solicitation are due to the COPS Office by June 30, 2003 by 6 p.m. Please submit an original application package (with original signatures) and four copies to: U.S. Department of Justice, Office of Community Oriented Policing Services, 1100 Vermont Ave., NW., Washington, DC 20530, Attn: Angel Winters, PPSE.

FOR FURTHER INFORMATION CONTACT: Please contact Angel Winters at (202) 514-9199 to obtain additional information about the solicitation. Application forms and information regarding the COPS Office are also available by calling the U.S. Department of Justice Response Center at 1-800-421-6770 or by visiting the COPS Office Internet Web site at www.cops.usdoj.gov.

(The Catalog of Federal Domestic Assistance (CFDA) reference for this program is 16.710.)
Dated: May 5, 2003.
Carl R. Peed,
Director, Office of Community Oriented Policing Services.

[FR Doc. 03-12692 Filed 5-20-03; 8:45 am]

BILLING CODE 4140-AT-M